DEPARTMENT OF DEFENSE

Department of the Army

Army Science Board Request for Information on Robotic and Autonomous Systems-of-Systems (RAS) Technology Initiatives

AGENCY: Department of the Army, DoD.

ACTION: Request for information regarding support to Army RAS Competencies.

SUMMARY: Pursuant to the Federal Advisory Committee Act of 1972 (5 U.S.C., Appendix, as amended), the Sunshine in Government Act of 1976 (U.S.C. 552b, as amended) and 41 Code of the Federal Regulations (CFR 102-3.140 through 160) the Department of the Army requests industry information on products, science and technology (S&T) research, operational concepts, and mission support innovations to support Army RAS competencies. No funds are available for any proposal or information submission and submitting information does not bind the Army for any future contracts/grants resulting from this request for information.

The Army Science Board is requesting information from organizations external to the Army that will help the board complete its analysis and ensure that all viable sources of information are explored. Based on information submitted in response to this request, the Army Science Board may invite selected organizations to provide additional information on technologies of interest.

To supplement the information developed in previous studies and otherwise available to the Board, organizations are invited to submit information on products or technologies to support RAS competencies and can be developed externally, either with support from the Army or from other sources.

Specific information requested from industry on RAS products or technology (including Unmanned Air Systems (UAS) or Unmanned Ground Vehicles (UGV)) that companies are offering, or plan to offer, to government, civil or commercial customers is: Identification of the product and its capabilities; Description of the product or technology, including on-board processing architecture and functionality (e.g., vehicle guidance, navigation and control, sensor processing); Description of the current autonomous functionality and capabilities (e.g., waypoint navigation, sensor management, perception/reasoning); Description of plans to increase autonomy and changes, if any, to on-board processing architecture/functionality enabling greater autonomy; Description of the Human-RAS collaboration capabilities, or planned capabilities, and changes, if any, to on-board processing architecture/functionality enabling greater human-RAS collaboration; Assessment of utility of current, or planned, products or technologies to Army applications and missions.

ADDRESSES: Written submissions are to be submitted to the: Army Science Board, ATTN: Designated Federal Officer, 2530 Crystal Drive, Suite 7098, Arlington, VA 22202.

FOR FURTHER INFORMATION CONTACT: LTC Stephen K Barker at stephen.k.barker.mil@mail.mil.

SUPPLEMENTARY INFORMATION:

Background. The Terms of Reference (ToR) provided by the Office of the Secretary of the Army directs the Army Science Board (ASB) to undertake a 2016 Study on “Robotic and Autonomous Systems-of-Systems Architecture.”

In accordance with the ToR, this study will analyze and identify the Army formations with the greatest potential to benefit from adoption of RAS technology in both the near term (7-10 years) and the long term (10-25 years). For each selected application, the study team should define the benefits of RAS, considering such factors as cost, manpower reduction, survivability, and mission effectiveness. To the extent possible, the team should make maximum use of existing platforms available in the Army, other Services, or commercially. Among the concepts being studied by the study team, for which it is seeking input are on relevant products and technologies are: Counter Integrated Air Defense (IAD) System; Counter Armor and Counter Fires System; Combat Aviation Wingman; Manned-Unmanned Armor Platoon; Multi-Mission Aerial layer System; Soldier Situational Awareness (SA) System; and Point of Need Sustainment. This is not an exhaustive list. Other concepts are of interest as well.

Submission Instructions and Format: To respond to this request for information, interested parties should submit all information detailed below. Packages must be submitted by Friday, May 27, 2016 by 4 p.m. Eastern Standard Time. Submissions should briefly summarize the technologies within a maximum of four pages (as broken down in paragraphs b, c, and d below), excluding quad chart, figures, references and the cover page. No proprietary information should be included in the responses. Submissions require both a CD and a hard copy of the response. The size of the CD submission will be limited to 20 MB. The hard copy format specifications include 12 point font, single-spaced, single-sided, 8.5 by 11 inches paper, with a 1 inch margin.

a. Cover Page (1 page only):

Title

Industry

Respondent's technical and administrative points of contact (names, addresses, phone and fax numbers, and email addresses).

b. Abstract (1 page only): Summarize product or technology solutions and how they support Army RAS competencies. Respondents are encouraged to be as succinct as possible while providing sufficient detail to adequately convey the product or technology solutions.

c. Product or Technology Description (4 pages maximum): Provide an enhanced view of the product or technology solution you are proposing, focusing on the advantages of the product or technology and its applicability to future Army RAS competencies. The description of each solution should include the current state of development and the predicted performance levels the product or technology should reasonably achieve. Of most interest to this study is a description of the current autonomous functionality of the product, the types of human-RAS collaboration that are supported by the product, any plans to increase autonomy and collaboration, and changes required to the on-board processing architecture needed to enable these planned improvements.

d. Applicability to Future Army RAS competency (1 page only): Identify and expound upon how the product or technology supports the seven Study Concept areas mentioned above, concentrating on the added capability this solution provides that currently does not exist.

All Proposers should review the NATIONAL INDUSTRIAL SECURITY PROGRAM OPERATING MANUAL, (NISPOM), dated February 28, 2006, as it provides the baseline standards for the protection of classified information and prescribes the requirements concerning Contractor Development information under paragraph 4-105. Defense Security Service (DSS) Site for the NISPOM is: http://www.dss.mil/isp/fac_clear/download_nispom.html.

Unclassified white papers/CDs must be mailed to the POC listed (see ADDRESSES and FOR FURTHER INFORMATION CONTACT). Proposers who intend to include classified information or data in their white paper submission or who are unsure about the appropriate classification of their white papers should contact the POC for guidance and direction in advance of preparation at phone number (703) 545-8652.

A listing of respondents and whether or not their submission was utilized will be made available for public inspection upon request. Open deliberation by the full committee is anticipated on or about July 18, 2016 in Irvine, CA. This meeting will be preceded by standard Federal Register notification.

Brenda S. Bowen,
Army Federal Register Liaison Officer.

[FR Doc. 2016-11417 Filed 5-13-16; 8:45 am]

BILLING CODE 5001-03-P